FEDERAL COMMUNICATIONS COMMISSION

Notice of Public Information Collection(s) Being Reviewed by the Federal Communications Commission

May 14, 2001.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before June 22, 2001. If you anticipate that you will be submitting comments, but find it difficult to do so within the period of time allowed by this notice, you should advise the contact listed below as soon as possible.

ADDRESSES: Direct all comments to Judy Boley, Federal Communications Commission, Room 1-C804, 445 12th Street, SW., DC 20554 or via the Internet to jboley@fcc.gov.

FOR FURTHER INFORMATION CONTACT: For additional information or copies of the information collection(s), contact Judy Boley at 202-418-0214 or via the Internet at jboley@fcc.gov.

SUPPLEMENTARY INFORMATION: OMB Control No.: 3060-XXXX.

Title: Standards for Co-channel and Adjacent Channel Interference in the Land Mobile Radio Services.

Form No.: N/A.

Type of Review: New collection.

Respondents: Business or other for-profit.

Number of Respondents: 19 respondents.

Estimated Time Per Response: 40 hours.

Frequency of Response: One time reporting requirement.

Total Annual Burden: 760 hours.

Total Annual Cost: N/A.

Needs and Uses: The collection requires frequency coordinators in the Land Mobile radio services to arrive at a consensus standard to be used to determine co-channel and adjacent channel interference and to make a one time report of these standards to the Commission.

OMB Control No.: 3060-XXXX.

Title: Sections 90.35(b)(2) and 90.175(b)(1).

Form No.: N/A.

Type of Review: New collection.

Respondents: Business or other for-profit; state, local or tribal government.

Number of Respondents: 3,800.

Estimated Time Per Response: 1 hour.

Frequency of Response: One time reporting requirement, third party disclosure requirement.

Total Annual Burden: 120 hours.

Total Annual Cost: N/A.

Needs and Uses: The rules require applicants proposing to operate a land mobile radio station that have service contours that overlap an existing land mobile station to obtain written concurrence of the frequency coordinator associated with the industry for which the existing station license was issued, or the written concurrence of the licensee of the existing station.

OMB Control No.: 3060-XXXX.

Title: Public Safety—State Interoperability Channels.

Form No.: N/A.

Type of Review: New collection.

Respondents: State, local or tribal government.

Number of Respondents: 50.

Estimated Time Per Response: .5 hour.

Frequency of Response: One time reporting requirement.

Total Annual Burden: 25 hours.

Total Annual Cost: N/A.

Needs and Uses: This collection requires states to notify the FCC regarding their intentions concerning administration of the interoperability public safety channels. The requirement will be used by Commission personnel in determining which states will be responsible for the administrative and technical oversight of operations on the interoperability spectrum.

Federal Communications Commission.
Magalie Roman Salas,
Secretary.

[FR Doc. 01-12993 Filed 5-22-01; 8:45 am]

BILLING CODE 6712-01-P